DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed revised information collection. In accordance with the Paperwork Reduction Act of 1995, this notice seeks comments concerning the revised collection of information, which is necessary for assessment and improvement of the delivery of disaster assistance. The forms serve as survey tools used to evaluate customer perceptions of effectiveness, timeliness and satisfaction with initial, continuing and final delivery of disaster-related assistance.

SUPPLEMENTARY INFORMATION: This collection is in accordance with Executive Order 12862 requiring all Federal agencies to survey customers to determine the kind and quality of services they want and their level of satisfaction with existing services. The Government Performance and Results Act (GPRA) requires agencies to set missions and goals and measure performance against them. FEMA will fulfill these requirements by collecting customer service and program information through surveys of the Recovery Division's external customers.

Collection of Information

Title: Federal Emergency Management Agency (FEMA) Individual Assistance Customer Satisfaction Surveys.

Type of Information Collection: Revision of a currently approved collection.

OMB Number: 1660-0036.

Form Numbers: FEMA Form 90-147, Registration Intake Survey; FEMA Form 90-148, Helpline Survey; FEMA Form 90-149, Program Effectiveness & Recovery Survey; FEMA Form 90-150, Internet On-Line Registration Phone Survey; FEMA Form 90-151, Internet Applicant Inquiry/Update Phone Survey; Moderator's Guide for Focus Group.

Abstract: Federal agencies are required to survey their customers to determine the kind and quality of services customers want and their level of satisfaction with existing services. FEMA Managers use the survey results to measure program performance against standards for performance and customer service; measure achievement of GPRA and strategic planning objectives; and generally gauge and make improvements to disaster services that increase customer satisfaction and program effectiveness.

Affected Public: Individuals and households, businesses or other for-profit, not-for-profit institutions.

Estimated Total Annual Hour Burden: 8,791.75 hours.

Project/activity | No. of respondents | Frequency of responses | Hour burden per response (hours) | Annual responses | Total annual hour burden (hours)
| (A) | (B) | (C) | (D)=(A×B) | (E)=(C×D)
Registration Intake Survey (RI)—Phone | 8,855 | 1 | 0.25 | 8,855 | 2,213.75
Helpline Survey (HL)—Phone | 8,855 | 1 | 0.25 | 8,855 | 2,213.75
Program Effectiveness & Recovery Survey (PE&R)—Phone | 8,832 | 1 | 0.25 | 8,832 | 2,208
Internet—On Line Registration Survey—Phone | 2,990 | 1 | 0.25 | 2,990 | 747.50
Internet—Applicant Inquiry/Update Survey—Phone | 2,875 | 1 | 0.25 | 2,875 | 718.75
Surveys subtotal |  |  |  | 32,407 | 8,101.75
Focus Group held in person annually | 120 | 1 | 2.5 | 120 | 300
Focus Group One-on-One In Depth Interviews | 24 | 1 | .75 | 24 | 18
Focus Group On-Line Time Extended In Depth Interviews | 24 | 1 | 3 | 24 | 72
Focus Group Quantitative Design Validation | 1,200 | 1 | .25 | 1,200 | 300
Focus groups subtotal |  |  |  | 1,368 | 690
Total |  |  |  | 33,775 | 8,791.75

Estimated Cost: There is no expected cost to the respondents. The estimated annual cost to the Federal Government is $1,908,207.47.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before May 29, 2007.

ADDRESSES:

Interested persons should submit written comments to Chief, Records Management and Privacy, Information Resources Management Branch, Information Technology Services Division, Federal Emergency Management Agency, 500 C Street, SW., Room 609, Washington, DC 20472.

FOR FURTHER INFORMATION CONTACT: Contact Maggie Billing, Program Analyst, Customer Satisfaction Analysis Section, Texas National Processing Service Center, Recovery Division, FEMA at (940) 891-8709 or maggie.billing@dhs.gov for additional information. You may contact the Records Management Branch for copies of the proposed collection of information at facsimile number (202) 646-3347 or e-mail address: FEMA-Information-Collections@dhs.gov.

Dated: March 15, 2007.
John A. Sharetts-Sullivan,
Chief, Records Management and Privacy, Information Resources Management Branch, Information Technology Services Division, Federal Emergency Management Agency, Department of Homeland Security.

[FR Doc. E7-5619 Filed 3-27-07; 8:45 am]

BILLING CODE 9110-10-P